DEPARTMENT OF AGRICULTURE

Agricultural Marketing Service

7 CFR Parts 916 and 917

[Doc. No. AMS-FV-10-0084; FV10-916/917-3 CR]

Nectarines, Pears, and Peaches Grown in California; Continuance Referenda

AGENCY: Agricultural Marketing Service, USDA.

ACTION: Referenda order.

SUMMARY: This document directs that referenda be conducted among eligible California nectarine, pear, and peach growers to determine whether they favor continuance of the marketing orders regulating the handling of nectarines, pears, and peaches grown in California.

DATES: The referenda will be conducted from January 12 through February 2, 2011. To vote in these referenda, growers must have produced nectarines, pears, or peaches in California during the period April 1, 2010, through November 30, 2010.

ADDRESSES: Copies of the marketing orders may be obtained from the California Marketing Field Office, Marketing Order Administration Branch, Fruit and Vegetable Programs, AMS, United States Department of Agriculture, 2202 Monterey Street, Suite 102B, Fresno, California 93721-3129, or the Office of the Docket Clerk, Marketing Order Administration Branch, Fruit and Vegetable Programs, AMS, USDA, 1400 Independence Avenue, SW., STOP 0237, Washington, DC 20250-0237.

FOR FURTHER INFORMATION CONTACT: Jerry L. Simmons, Marketing Specialist, or Kurt J. Kimmel, Regional Manager, California Marketing Field Office, Marketing Order Administration Branch, Fruit and Vegetable Programs, AMS, USDA; Telephone: (559) 487-5901, Fax: (559) 487-5906; or e-mail: Jerry.Simmons@ams.usda.gov or Kurt.Kimmel@ams.usda.gov.

SUPPLEMENTARY INFORMATION: Pursuant to Marketing Order Nos. 916 and 917 (7 CFR parts 916 and 917), hereinafter referred to as the “orders,” and the applicable provisions of the Agricultural Marketing Agreement Act of 1937, as amended (7 U.S.C. 601-674), hereinafter referred to as the “Act,” it is hereby directed that referenda be conducted to ascertain whether continuance of the orders is favored by growers. The referenda shall be conducted from January 12 through February 2, 2011, among eligible California nectarine, pear, and peach growers. Only growers that were engaged in the production of nectarines, pears, or peaches in California during the period of April 1, 2010, through November 30, 2010, may participate in the continuance referenda.

Although pears are included under the provisions of M.O. 917, those provisions have been suspended since April 1994. Since that time, the pear industry has been regulated by a State marketing order. If the results of the pear referendum do not favor continuance, the pear order will be terminated. Otherwise, this suspension will remain in effect unless the pear industry recommends reactivation or termination of the Federal program.

Referendum requirements for the most recent cycle of continuance referenda were suspended by USDA because the orders were being amended at the time (72 FR 12038, March 15, 2007). USDA determined that it would be appropriate to allow the amended orders to operate for a period of time before asking growers to vote on continuance of the programs. The referenda ordered herein will thus be the first conducted since the orders were amended in 2006 (71 FR 41345, July 21, 2006).

USDA has determined that continuance referenda are an effective means for determining whether growers favor the continuation of marketing order programs. USDA would consider terminating the orders if fewer than two-thirds of the growers voting in the referenda or growers of less than two-thirds of the volume of California nectarines, pears, and peaches represented in the referenda favor continuance of their programs. In evaluating the merits of continuance versus termination, USDA will consider the results of the continuance referenda and all other relevant information regarding operation of the orders. USDA will evaluate the orders' relative benefits and disadvantages to growers, handlers, and consumers to determine whether continuing the orders would tend to effectuate the declared policy of the Act.

In accordance with the Paperwork Reduction Act of 1995 (44 U.S.C. chapter 35), the ballot materials used in the referenda herein ordered have been approved by the Office of Management and Budget (OMB), under OMB No. 0581-0189, “Generic Fruit Crops.” It has been estimated that it will take an average of 20 minutes for each of the approximately 950 growers of California nectarines, pears, and peaches to cast a ballot. Participation is voluntary. Ballots postmarked after February 2, 2011, will not be included in the vote tabulation.

Jerry L. Simmons and Terry J. Vawter of the California Marketing Field Office, Fruit and Vegetable Programs, AMS, USDA, are hereby designated as the referenda agents of the Secretary of Agriculture to conduct these referenda. The procedure applicable to the referenda shall be the “Procedure for the Conduct of Referenda in Connection With Marketing Orders for Fruits, Vegetables, and Nuts Pursuant to the Agricultural Marketing Agreement Act of 1937, as Amended” (7 CFR 900.400-900.407).

Ballots will be mailed to all growers of record and may also be obtained from the referenda agents or from their appointees.

List of Subjects

7 CFR Part 916

Marketing agreements and orders, Nectarines, Reporting and recordkeeping requirements.

7 CFR Part 917

Marketing agreements and orders, Peaches, Pears, Reporting and recordkeeping requirements.

Authority: 7 U.S.C. 601-674.

Dated: December 7, 2010.
Craig Morris,
Acting Administrator, Agricultural Marketing Service.

[FR Doc. 2010-31201 Filed 12-10-10; 8:45 am]

BILLING CODE 3410-02-P